NATIONAL SCIENCE FOUNDATION

Sunshine Act Meeting

AGENCY HOLDING MEETING: National Science Foundation, National Science Board.

DATE AND TIME: February 2, 2000: 9:00 a.m.-5:30 p.m., Open Session; February 3, 2000: 8:30 a.m.-12:15 p.m., Open Session.

PLACE: The Arnold & Mabel Beckman Center, 100 Academy Drive, Irvine, California 92612.

STATUS: This meeting will be open to the public.

MATTERS TO BE CONSIDERED:

Wednesday, February 2

—Open Session Minutes, November 1999

—Closed Session Items for March 2000

—Chair's Report

—Director's Report

—NSF Strategic Plan

—NSB Report: Environmental Science & Engineering for the 21st Century

—Committee on Communication & Outreach Interim Report

—NSB Symposium: Communicating Science & Technology In the Public Interest

Thursday, February 3

—NSB Symposium: Communicating Science & Technology In the Public Interest, continued

Marta Cehelsky,
Executive Officer.

[FR Doc. 00-1750 Filed 1-20-00; 3:37 pm]

BILLING CODE 7555-01-M